DEPARTMENT OF ENERGY

Federal Energy Regulatory Commission

[Docket No. RP01-256-000]

Williston Basin Interstate Pipeline Company; Notice of Tariff Filing

March 6, 2001.

Take notice that on March 1, 2001, Williston Basin Interstate Pipeline Company (Williston Basin), tendered for filing as part of its FERC Gas Tariff, Original Volume No. 2, certain revised tariff sheets listed on Appendix A to the filing, with an effective date of March 1, 2001.

Williston Basin states that the revised tariff sheets are being filed pursuant to the Service Agreement applicable to Rate Schedule X-13 service between Williston Basin and Northern States Power Company. The rate for firm transportation hereunder has been restated to reflect the fourth biennial restatement under the terms of the Service Agreement. The restated rate reflects a reservation charge of $17.52627 per Mcf per month, excluding applicable surcharges.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at

http://www.ferc.fed.us/efi/doorbell.htm.

David P. Boergers,
Secretary.

[FR Doc. 01-6006 Filed 3-9-01; 8:45 am]

BILLING CODE 6717-01-M